DEPARTMENT OF HEALTH AND HUMAN SERVICES

Centers for Medicare & Medicaid Services

42 CFR Parts 412 and 413

[CMS-1529-P]

RIN 0938-AO30

Medicare Program; Prospective Payment System for Long-Term Care Hospitals RY 2008: Proposed Annual Payment Rate Updates, and Policy Changes; and Proposed Hospital Direct and Indirect Graduate Medical Education Policy Changes

Correction

In proposed rule document 07-392 beginning on page 4776 in the issue of Thursday, February 1, 2007 make the following correction:

On page 4776, in the first column, under the DATES heading, in the last line “April 2, 2007” should read “March 26, 2007 ”.

[FR Doc. C7-392 Filed 2-5-07; 8:45 am]

BILLING CODE 1505-01-D